DEPARTMENT OF COMMERCE

International Trade Administration, Trade Development

Environmental Technologies Trade Advisory Committee (ETTAC), Request for Nominations

SUMMARY: The Environmental Technologies Trade Advisory Committee (ETTAC) was established pursuant to provisions under Title IV of the Jobs Through Trade Expansion Act, 22. U.S.C. 2151, and under the Federal Advisory Committee Act, 5 U.S.C. App.2. ETTAC was first chartered on May 31, 1994. ETTAC serves as an advisory body to the Environmental Trade Working Group of the Trade Promotion Coordinating Committee, reporting directly to the Secretary of Commerce in his capacity as Chairman of the TPCC. ETTAC advises on the development and administration of policies and programs to expand United States exports of environmental technologies, goods, and services and products that comply with United States environmental, safety, and related requirements.

Membership in a committee operating under the Federal Advisory Committee Act must be balanced in terms of economic subsector, geographic location and company size. Committee members serve in a representative capacity, and must be able to generally represent the views and interests of a certain subsector of the U.S. environmental industry. We are seeking CEO, President or Executive Vice President-level company candidates. Members of the ETTAC have experience in exporting the full range of environmental technologies products and services including:

(1) Analytic Services

(2) Financial Services

(3) Water and Wastewater Services and Equipment

(4) Air Pollution Control/Monitoring Equipment

(5) Process and Prevention Technologies

(6) Environmental Energy Sources

(7) Solid and Hazardous Waste Equipment and Management

(8) Environmental Engineering and Consulting

The Secretary invites nominations to ETTAC of U.S. citizens who will represent U.S. environmental goods and services companies that trade internationally, or trade associations whose members are U.S. companies that trade internationally. Companies must be at least 51 percent beneficially-owned by U.S. persons. U.S.-based subsidiaries of foreign companies in general do not qualify for representation on the committee.

Nominees will be considered based upon their ability to carry out the goals of ETTAC's enabling legislation as further articulated in its charter. ETTAC's Charter is available on the internet at http://www.environment.ita.doc.gov. Priority will be given to a balanced representation in terms of point of view represented by various sectors, product lines, firm sizes and geographic areas. Appointments are made without regard to political affiliation.

If you are interested in nominating someone to become a member of ETTAC, please send the following information. Self-nominations are accepted.

(1) Name

(2) Title

(2) Work Phone; Fax; and, Email Address

(3) Company or Trade Association Name and Address

(4) Short Bio of the candidate

(5) Fact-sheet on the company or trade association providing a description of its business activities; company size (number of employees and annual sales); export markets served.

Nominees must be U.S. citizens, representing U.S. environmental goods and services firms that trade internationally or provide services in direct support of the international trading activities of other entities. Materials may be faxed to 202-482-5665; or mailed c/o ETTAC, U.S. Department of Commerce, 14th and Constitution, NW., Room 1003.

Deadline: This request will be open until December 31, 2001 from August 3, 2001.

FOR FURTHER INFORMATION CONTACT: Jane Siegel, Office of Environmental Technologies Exports, Room 1003, U.S. Department of Commerce, 14th Street and Constitution Avenue, NW., Washington, DC 20230; phone 202-482-5225.

Dated: July 27, 2001.
Carlos M. Montoulieu,
Acting Deputy Assistant Secretary.

[FR Doc. 01-19387 Filed 8-2-01; 8:45 am]

BILLING CODE 3510-DR-P